SOCIAL SECURITY ADMINISTRATION

Privacy Act of 1974, as Amended; New System of Records and New Routine Use Disclosures

AGENCY: Social Security Administration (SSA).

ACTION: Proposed new routine use for existing systems of records.

SUMMARY: In accordance with the Privacy Act (5 U.S.C. 552a(e)(4) and (11)), we are issuing public notice of our intent to establish a new routine use disclosure applicable to the following existing SSA systems of records:

• Completed Determination Record—Continuing Disability Determinations, 60-0050;

• Master Files of Social Security Number (SSN) Holders and SSN Applications, 60-0058;

• Master Beneficiary Record, 60-0090;

• Supplemental Security Income Record and Special Veterans Benefits, 60-0103;

• Old Age, Survivors and Disability Beneficiary and Worker Records and Extracts (Statistics), 60-0202; and

• Beneficiary, Family and Household Surveys, Records and Extracts System (Statistics), 60-0211.

The proposed routine use will allow SSA to expand the use of information SSA currently collects for additional SSA-approved research studies. Such further uses will permit the development of richer and more comprehensive information that can be used in actuarial, epidemiological, economic and other social science projects that will ultimately benefit the public, SSA, and other Federal, State or congressional support agencies' (e.g., Congressional Budget Office (CBO) and the Congressional Research Staff in the Library of Congress) programs. We invite public comment on this proposal.

DATES: We filed a report of the proposed new routine use disclosure with the Chairman of the Senate Committee on Governmental Affairs, the Chairman of the House Committee on Government Reform, and the Director, Office of Information and Regulatory Affairs, Office of Management and Budget (OMB) on March 4, 2004. The proposed routine use will become effective on April 13, 2004, unless we receive comments warranting it not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Pamela McLaughlin, Social Insurance Specialist, Strategic Issues Team, Office of Public Disclosure, Office of the General Counsel, Social Security Administration, Room 3-C-2 Operations Building, 6401 Security Boulevard, Baltimore, Maryland 21235, e-mail address at pam.mclaughlin@ssa.gov, or by telephone at (410) 965-3677.

SUPPLEMENTARY INFORMATION:

I. Discussion of the Proposed New Routine Use

A. General

In an effort to improve the quality of research designed to enhance the decision-making process in the Social Security program, SSA is expanding the use of information it currently collects for additional SSA-approved research studies. Such further uses will permit the development of richer and more comprehensive information that can be used in actuarial, epidemiological, economic and other social science projects that will ultimately benefit the public, SSA, and other Federal, State or congressional support agencies' (e.g., Congressional Budget Office (CBO) and the Congressional Research Staff in the Library of Congress) programs. The proposed use of the information will allow new studies to occur regarding the administration of the Social Security program, and other related programs, that might otherwise not be undertaken due to the lack of data.

B. Disclosure of Information to a Federal, State or Congressional Support Agency (e.g., CBO and the Congressional Research Staff in the Library of Congress) for Research, Evaluation or Statistical Studies

1. The types of information that are most commonly used that will be released under the proposed routine use may include, but not be limited to, the types of information in the following systems of records that SSA maintains:

(a) From the Completed Determination Record—Continuing Disability Determinations, 60-0050: date of birth; date disability began; type of claim; continuance or cessation code; date of termination; and date of completion.

(b) From the Master Files of Social Security Number (SSN) Holders and SSN Applications, 60-0058: date of birth; sex; race; place of birth; and date of death.

(c) From the Master Beneficiary Record, 60-0090: primary insurance amount; average indexed monthly earnings; date of death of primary beneficiary; beneficiary date of birth; beneficiary date of death; monthly benefit amount; monthly benefit payable; diagnosis code; reason for denial/disallowance; and dual-entitlement data.

(d) From the Supplemental Security Income Record and Special Veterans Benefits, 60-0103: transaction code; computation status; date of birth; date of death; sex; race; date of eligibility; payment status code; Federal assistance amount; and current amount of State supplementation.

(e) From the Old Age, Survivors and Disability Beneficiary and Worker Records and Extracts (Statistics), 60-0202: various data.

(f) From the Beneficiary, Family, and Household Surveys, Records and Extracts System (Statistics), 60-0211: various data.

2. The types of research activities contemplated by the proposed routine use do not include research proposals that involve the use of information from SSA's systems of records to draw samples for surveys or to contact individuals, other than in situations already provided for in regulations.

The proposed routine use reads as follows:

Disclosure may be made to a Federal, State, or congressional support agency (e.g., Congressional Budget Office and the Congressional Research Staff in the Library of Congress) for research, evaluation, or statistical studies. Such disclosures include, but are not limited to, release of information in assessing the extent to which one can predict eligibility for Supplemental Security Income (SSI) payments or Social Security disability insurance (SSDI) benefits; examining the distribution of Social Security benefits by economic and demographic groups and how these differences might be affected by possible changes in policy; analyzing the interaction of economic and non-economic variables affecting entry and exit events and duration in the Title II Old Age, Survivors, and Disability Insurance and the Title XVI SSI disability programs; and, analyzing retirement decisions focusing on the role of Social Security benefit amounts, automatic benefit recomputation, the delayed retirement credit, and the retirement test, if SSA:

a. Determines that the routine use does not violate legal limitations under which the record was provided, collected, or obtained;

b. Determines that the purpose for which the proposed use is to be made:

(i) Cannot reasonably be accomplished unless the record is provided in a form that identifies individuals;

(ii) Is of sufficient importance to warrant the effect on, or risk to, the privacy of the individual which such limited additional exposure of the record might bring;

(iii) Has reasonable probability that the objective of the use would be accomplished;

(iv) Is of importance to the Social Security program or the Social Security beneficiaries or is for an epidemiological research project that relates to the Social Security program or beneficiaries;

c. Requires the recipient of information to:

(i) Establish appropriate administrative, technical, and physical safeguards to prevent unauthorized use or disclosure of the record and agree to on-site inspection by SSA's personnel, its agents, or by independent agents of the recipient agency of those safeguards;

(ii) Remove or destroy the information that enables the individual to be identified at the earliest time at which removal or destruction can be accomplished consistent with the purpose of the project, unless the recipient receives written authorization from SSA that it is justified, based on research objectives, for retaining such information;

(iii) Make no further use of the records except

(a) Under emergency circumstances affecting the health or safety of any individual following written authorization from SSA;

(b) For disclosure to an identified person approved by SSA for the purpose of auditing the research project;

(iv) Keep the data as a system of statistical records. A statistical record is one which is maintained only for statistical and research purposes and which is not used to make any determination about an individual;

d. Secures a written statement by the recipient of the information attesting to the recipient's understanding of, and willingness to abide by, these provisions.

We are not republishing in their entirety the notices of systems of records to which we are adding the proposed new routine use disclosure. Instead, we are republishing only the identification number, and the name of each system of records, and the volume, page number, and date of the Federal Register (FR) issue in which the systems notice was last published. The proposed new routine use will be included in the following SSA systems notices:

(1) Completed Determination Record—Continuing Disability Determinations, 60-0050;

(2) Master Files of Social Security Number (SSN) Holders and SSN Applications, 60-0058;

(3) Master Beneficiary Record, 60-0090;

(4) Supplemental Security Income Record and Special Veterans Benefits, 60-0103;

(5) Old Age, Survivors and Disability Beneficiary and Worker Records and Extracts (Statistics), 60-0202; and

(6) Beneficiary, Family and Household Surveys, Records and Extracts System (Statistics), 60-0211.

II. Compatibility of Proposed Routine Use

The Privacy Act (5 U.S.C. 552a(a)(7) and (b)(3)) and SSA's disclosure regulation (20 CFR part 401) permit us to disclose information under a published routine use for a purpose that is compatible with the purpose for which we collected the information. Section 401.150(c) of SSA's Regulations at 20 CFR permits us to disclose information under a routine use, where necessary, to carry out SSA programs. This proposed routine use will allow new studies to occur regarding the administration of the Social Security program, and other related programs, that might not otherwise be undertaken due to the lack of data. The types of research activities contemplated by the proposed routine use would include, but are not limited to, assessing the extent to which one can predict eligibility for SSI payments or Social Security disability insurance benefits; examining the distribution of Social Security benefits by economic and demographic groups and how these differences might be affected by possible changes in policy; analyzing the interaction of economic and non-economic variables affecting entry and exit events and duration in the Title II Old Age, Survivors, and Disability Insurance and Title XVI SSI disability programs; and, analyzing retirement focusing on the role of Social Security benefit amounts, automatic benefit computation, the delayed retirement credit, and the retirement test. The proposed routine use is appropriate and meets the relevant statutory and regulatory criteria.

III. Effect of the Proposed Routine Use Disclosure on the Rights of Individuals

The proposed routine use will allow SSA to disclose more comprehensive information that can be used in actuarial, epidemiological, economic, and other social science projects that will ultimately benefit SSA, other Federal programs and the public. The research activity that will be conducted based on information disclosed under the proposed routine use will not result in decisions or actions taken against specific individuals. The routine use has established safeguards to prevent unauthorized use of disclosure of the record and to ensure the privacy and other rights of individuals. Additionally, we will adhere to all applicable provisions of the Privacy Act when disclosing information. Thus, we do not anticipate that the proposed new routine use will have any unwarranted adverse effect on the rights of individuals about whom data will be disclosed.

Dated: March 3, 2004.
Jo Anne B. Barnhart,
Commissioner.

[FR Doc. 04-5414 Filed 3-10-04; 8:45 am]

BILLING CODE 4191-02-P